DEPARTMENT OF TRANSPORTATION

Office of the Secretary

Notice of Applications for Certificates of Public Convenience and Necessity and Foreign Air Carrier Permits Filed Under Subpart B (Formerly Subpart Q) During the Week Ending November 23, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0081.

Date Filed: November 21, 2007.

Due Date for Answers, Conforming Applications, or Motion to Modify Scope: December 12, 2007.

Description: Application of Air Ecuador Airecu S.A. requesting a foreign air carrier permit and an exemption to engage, as a wet lessee, in (i) scheduled foreign air transportation of persons, property and mail between a point or points in Ecuador and New York, New York coextensive with the rights provided under the U.S.-Ecuador Air Transport agreement, and (ii) charter foreign air transportation of persons, property and mail pursuant to the U.S.-Ecuador Air Transport Agreement and Part 212.

Renee V. Wright,
Program Manager, Docket Operations, Federal Register Liaison.

[FR Doc. E8-5346 Filed 3-17-08; 8:45 am]

BILLING CODE 4910-9X-P